NATIONAL AERONAUTICS AND SPACE ADMINISTRATION

[Notice (05-014)]

NASA Advisory Council, Minority Business Resource Advisory Committee; Meeting.

AGENCY: National Aeronautics and Space Administration (NASA).

ACTION: Notice of meeting.

SUMMARY: In accordance with the Federal Advisory Committee Act, Public Law 92-463, as amended, the National Aeronautics and Space Administration announce a forthcoming meeting of the NASA Advisory Council (NAC), Minority Business Resource Advisory Committee.

DATES: Thursday, February 17, 2005, 9 a.m. to 4 p.m., and Friday, February 18, 2005, 9 a.m. to 12 Noon.

ADDRESSES: Goddard Space Flight Center, Greenbelt, MD 20771, Room: MCC, Bldg. 8.

FOR FURTHER INFORMATION CONTACT: Mr. Ralph C. Thomas III, Office of Small and Disadvantaged Business Utilization, National Aeronautics and Space Administration, (202) 358-2088.

SUPPLEMENTARY INFORMATION: The meeting will be open to the public up to the seating capacity of the room. The agenda for the meeting is as follows:

—Review of previous meeting.

—NASA Small Business Program Overview for FY 2004.

—Impact of NASA Advisory Council reorganization.

—Current issues impacting minority businesses at NASA.

—Public comment.

—Panel discussion and review.

—Discussion of Small Business Administration proposed size standards rules.

—Upcoming NASA Events for small businesses.

Attendees will be requested to register with NASA Goddard Space Flight Center security at the Center Main Entrance, and will have to present a valid picture ID, before receiving an access badge. Foreign nationals attending this meeting will be required to provide the following information no less than 3 working days prior to the meeting: Full name; gender; date/place of birth; citizenship; visa/green card information (number, type, expiration date); passport information (number, country, expiration date); employer/affiliation information (name of institution, address, country, phone); title/position of attendee. To expedite admittance, attendees can provide identifying information in advance by contacting Mr. Lamont Hames via email at lhames@nasa.gov or by telephone at 202-358-2088. It is imperative that the meeting be held on this date to accommodate the scheduling priorities of the key participants.

Visitors will be requested to sign a visitor's register.

Dated: January 31, 2005.
P. Diane Rausch,
Advisory Committee Management Officer, National Aeronautics and Space Administration.

[FR Doc. 05-2165 Filed 2-3-05; 8:45 am]

BILLING CODE 7510-13-P